ENVIRONMENTAL PROTECTION AGENCY

[FRL-7413-8]

Meeting of the Drinking Water Contaminant Candidate List Classification Process Work Group of the National Drinking Water Advisory Council

AGENCY: Environmental Protection Agency.

ACTION: Notice of public meeting.

SUMMARY: Under section 10(a)(2) of Public Law 92-423, “The Federal Advisory Committee Act,” notice is hereby given of the forthcoming meeting of the Drinking Water Contaminant Candidate List (CCL) Classification Process Work Group of the National Drinking Water Advisory Council (NDWAC), established under the Safe Drinking Water Act, as amended (42 U.S.C. 300f et seq.).

DATES: The next two meetings of the NDWAC CCL Work Group will be held on the following dates: December 16-17, 2002 (9 a.m.-5 p.m. EDT on December 16, and 8 a.m.-3:30 p.m. EDT on December 17); and February 5-6, 2003 (9 a.m.-5 p.m. EDT on February 5, and 8 a.m.-3:30 p.m. EDT on February 6).

ADDRESSES: The December meeting of the NDWAC CCL Work Group will be held at the National League of Cities, 1301 Pennsylvania Avenue, NW., Washington, DC. The February meeting of the CCL Work Group will be held at RESOLVE Inc., 1255 23rd Street, NW., Suite 275, Washington, DC.

FOR FURTHER INFORMATION CONTACT: For more information on the location and times of these meetings, or general background information please contact the Safe Drinking Water Hotline (phone: 800-426-4791 or (703) 285-1093; e-mail: hotline-sdwa@epa.gov). Members of the public are requested to contact RESOLVE if they plan on attending, at (202) 944-2300. Any person needing special accommodations at either of these meetings, including wheelchair access, should contact RESOLVE (contact information previously noted), at least five business days before the meeting so that appropriate arrangements can be made. For technical information contact Dr. Jitendra Saxena, Designated Federal Officer, CCL Classification Process Work Group, U.S. Environmental Protection Agency, Office of Ground Water and Drinking Water (4607M), 1200 Pennsylvania Avenue, NW, Washington, DC 20460 (e-mail: saxena.jitendra@epa.gov; Tel. 202-564-5243).

SUPPLEMENTARY INFORMATION: The CCL serves as the primary source of priority contaminants for research and regulatory evaluations for the Agency's drinking water program. The list is comprised of both chemical and microbial contaminants that are known or anticipated to occur in public water systems, and may have adverse health effects, and which at the time of publication are not subject to any proposed or promulgated National Primary Drinking Water Regulations. EPA has formed a CCL Classification Process Work Group of the National Drinking Water Advisory Council (NDWAC) to help the Agency in developing a new risk based priority setting process based upon the recommendations made by the National Research Council (NRC) in its 2001 report.

The work group is comprised of 21 recognized technical experts representing an array of backgrounds and perspectives who are as impartial and objective as possible. The work group is charged with discussing, evaluating, and providing advice on methodologies, activities, and analysis needed to implement the NRC recommendations on an expanded approach for the CCL listing process. This may include advice on developing and identifying: (1) Overall implementation strategy, (2) prototype classification methodology, classification attributes and criteria that should to be used, (3) pilot projects to validate new classification approaches, (4) demonstration studies that explore the feasibility of the VFAR (Virulance-Factor Activity Relationships) approach, (5) risk communication issues, and (6) additional issues not addressed in the NRC report.

The first meeting of the work group was held on September 18-19, 2002. The meeting objectives were to: gain understanding of the NRC recommendations from the invited members of the NRC panel; identify questions, issues and technical expertise needed to fulfill its charge; and plan next steps. At the conclusion of the first meeting, the work group identified four activity areas for small group discussions and formed committees to address each area (4-6 members/committee). The four committees are: committee on characterization of the universe of contaminants, committee on classification systems, committee on VFAR, and committee on developing guiding principles for the work group. Each committee is expected to hold several conference calls for group discussions in between the plenary meetings. EPA will provide technical materials and RESOLVE will arrange a conference call for each committee.

The meetings are open to the public for observation purposes only. Statements from the public will be taken at the close of each meeting. EPA is not soliciting written comments and is not planning to formally respond to comments.

Dated: November 20, 2002.
Nanci Gelb,
Acting Director, Office of Ground Water and Drinking Water.

[FR Doc. 02-29975 Filed 11-25-02; 8:45 am]

BILLING CODE 6560-50-P